DEPARTMENT OF JUSTICE

Notice of Lodging of Consent Decrees Pursuant to the Comprehensive Environmental Response, Compensation, and Liability Act and the Clean Air Act

In accordance with 28 CFR § 50.7 and Departmental policy, notice is hereby given that on December 5, 2001, a proposed consent decree in the case captioned United States v. Cohen, et al., Civil Action No. 96 C 7801 (N.D. Ill.), was lodged with the United States District Court for the Northern District of Illinois. The proposed consent decree relates to the Standard Scrap Metal/Chicago International Exporting Site located at 4004-4020 South Wentworth and 4000-4027 South Wells Streets in Chicago, Illinois. The proposed consent decree would resolve civil claims of the United States for recovery of past response costs under Section 107 of the Comprehensive Environmental Response, Compensation, and Liability Act, as amended, 42 U.S.C. 9607 (“CERCLA”), as well as claims for civil penalties under section 104 of CERCLA, and for civil penalties and injunctive relief under section 113 of the Clean Air Act, 42 U.S.C. 7413, against Steven Cohen, Lawrence A. Cohen, Chicago International Chicago, Inc., and Chicago International Exporting (“Settling Defendants”). Under the proposed consent decree, the Settling Defendants paid the United States $500,000 in partial reimbursement of past response costs: $105,000 in civil penalties for violations of section 104 of CERCLA; and $105,000 in civil penalties for violations of the Clean Air Act. The Settling Defendants also certified that they had removed from their property the metal sorting lines and metal shredding lines that were the subject of the CAA violations.

The Department of Justice will receive, for a period of thirty (30) days from the date of this publication, comments relating to the proposed comment decree. Comments should be addressed to the Assistant Attorney General of the Environment and Natural Resource Division, Department of Justice, Washington, D.C. 20530, and should refer to United States v. Cohen, et al., Civil Action No. 96 C 7801 (N.D. Ill.), and DOJ Reference No. 90-11-3-1414A.

The proposed consent decree may be examined at: (1) the Office of the United States Attorney for the Northern District of Illinois, 219 South Dearborn St., Chicago, Illinois, 60604; and (2) the United States Environmental Protection Agency (Region 5), 77 West Jackson Boulevard, Chicago, Illinois 60604-3590. Copies of the proposed consent decree may be obtained by mail from the Department of Justice Consent Decree Library, P.O. Box 7611, Washington, DC 20044. In requesting copies, please refer to the above-referenced case and DOJ Reference Number and enclose a check for $6.50 (25 cents per page reproduction cost) made payable to the Consent Decree Library.

William D. Brighton,
Assistant Section Chief, Environmental Enforcement Section, Environmental and Natural Resources Division.

[FR Doc. 01-31782 Filed 12-26-01; 8:45 am]

BILLING CODE 4410-15-M